SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before April 23, 2007.

ADDRESSES: Send all comments regarding whether this information collection is necessary for the proper performance of the function of the agency, whether the burden estimates are accurate, and if there are ways to minimize the estimated burden and enhance the quality of the collection, to Carol Fendler, Systems Accountant, Office of Investment, Small Business Administration, 409 3rd Street, SW., 6th Floor, Washington, DC 20416.

FOR FURTHER INFORMATION CONTACT: Carol Fendler, Systems Accountant, Office of Investment 202-205-7559 carol.fendler@sba.gov. Curtis B. Rich, Management Analyst, 202-205-7030 curtis.rich@sba.gov.

SUPPLEMENTARY INFORMATION:

Title: “Size Status Declaration”.

Description of Respondents: New Licensees.

Form No.: 480.

Annual Responses: 4,200.

Annual Burden: 700.

Title: “Stockholders' Confirmation (Corporation); Ownership Confirmation (Partnership)”.

Description of Respondents: Newly Licensed SBIC'S.

Form Nos.: 1405, 1405A.

Annual Responses: 600.

Annual Burden: 600.

ADDRESSES: Send all comments regarding whether this information collection is necessary for the proper performance of the function of the agency, whether the burden estimates are accurate, and if there are ways to minimize the estimated burden and enhance the quality of the collection, to Sandra Johnston, Office of Financial Assistance, Small Business Administration, 409 3rd Street, SW., 8th Floor, Washington, DC 20416.

FOR FURTHER INFORMATION CONTACT: Sandra Johnston, Program Analyst, Office of Financial Assistance 202-205-7528 sandra.johnston@sba.gov. Curtis B. Rich, Management Analyst, 202-205-7030 curtis.rich@sba.gov.

SUPPLEMENTARY INFORMATION:

Title: “CDC Annual Report Guide”.

Description of Respondents: Certified Development Companies.

Form No.: 1253.

Annual Responses: 1.

Annual Burden: 7,500.

ADDRESSES: Send all comments regarding whether this information collection is necessary for the proper performance of the function of the agency, whether the burden estimates are accurate, and if there are ways to minimize the estimated burden and enhance the quality of the collection, to Leo Sanchez, Senior Analyst, Office of Government Contracting & Business Development, Small Business Administration, 409 3rd Street, SW., 8th Floor, Washington, DC 20416.

FOR FURTHER INFORMATION CONTACT: Leo Sanchez, Senior Analyst, Office of Government Contracting & Business Development 202-205-7528 leo.sanshez@sba.gov. Curtis B. Rich, Management Analyst, 202-205-7030 curtis.rich@sba.gov.

SUPPLEMENTARY INFORMATION: Title: “8(a) SDB Paper and Electronic Application”.

Description of Respondents: 8(a) SDB Companies.

Form No.: 1010, 1010B, 1010C, 2065.

Annual Responses: 8,400.

Annual Burden: 36,210.

Jacqueline White,
Chief, Administrative Information Branch.

[FR Doc. E7-2867 Filed 2-20-07; 8:45 am]

BILLING CODE 8025-01-P